MARINE MAMMAL COMMISSION

Sunshine Act Notice

TIME AND DATE: The Marine Mammal Commission and its Committee of Scientific Advisors on Marine Mammals will meet to discuss Commission administrative matters on Monday, 20 October, 2003, from 8:30 a.m. to 5 p.m. The Commission will meet in executive session on Tuesday, 21 October, 2003 from 8:30 a.m. to 12 p.m. Sessions of the Commission and the Committee's Annual Meeting related to marine mammal conservation will be held on Tuesday, 21 October, 2003, from 1 p.m. to 5:30 p.m., on Wednesday, 22 October, 2003, from 8:15 a.m. to 5:30 p.m., and on Thursday, 22 October, 2003, from 8:15 a.m. to 1 p.m.

PLACE: The Newport Harbor Hotel and Marina, 49 America's Cup Avenue, Newport, Rhode Island 02840; telephone (401) 847-9000; fax (401) 849-6380.

STATUS: The executive session will be closed to the public. At it, matters relating to international negotiations in process, personnel, and the budget of the Commission will be discussed. All other portions of the meeting will be open to public observation. Public participation will be allowed as time permits and as determined to be desirable by the Chairman.

MATTERS TO BE CONSIDERED: The Commission and Committee will meet to discuss a broad range of marine mammal matters. While subject to change, major issues that the Commission plans to consider at the meeting are the status of large whales along the U.S. North Atlantic coast, including ongoing and planned research, the Atlantic Large Whale Take Reduction Plan, and ship collisions with North Atlantic right whales; the status of bottlenose dolphins along the U.S. East Coast; issues related to interactions between marine mammals and fisheries; a review of take reduction teams; issues related to strandings of marine mammals; issues related to marine mammal permits; and other matters. A more detailed agenda can be found on the Commission's Web site, http://www.mmc.gov.

FOR FURTHER INFORMATION CONTACT: David Cottingham, Executive Director, Marine Mammal Commission, 4340 East-West Highway, Room 905, Bethesda, MD 20814, (301) 504-0087.

Dated: September 25, 2003.
David Cottingham,
Executive Director.

[FR Doc. 03-24672 Filed 9-25-03; 10:09 am]

BILLING CODE 6820-31-M